DEPARTMENT OF DEFENSE

Department of the Army

Preparation of a Programmatic Environmental Impact Statement (PEIS) for the Stationing and Operation of Joint High Speed Vessels (JHSVs)

AGENCY: Department of the Army, DoD.

ACTION: Notice of intent.

SUMMARY: The Army intends to prepare a PEIS for the proposed stationing and operation of up to 12 JHSVs. The JHSV is a strategic transport vessel that is designed to support the rapid transport of Army Soldiers, other military personnel and equipment in the U.S. and abroad. The PEIS will assess the potential environmental impacts associated with the proposed stationing of JHSVs at the following military port locations: Virginia Tidewater area; San Diego, CA area; Seattle-Tacoma, WA area; Pearl Harbor, HI area; and Guam. These locations were selected based on the following criteria: sites have existing military port facilities that do not require new infrastructure construction or improvements; sites have existing maintenance facilities for up to, but not including, depot level facilities for major JHSV repairs and maintenance; and sites are capable of supporting the strategic needs of the nation's Combatant Commanders. Not all of the proposed ports will receive JHSVs and other viable locations raised during public scoping may be considered as stationing sites. The Army's Record of Decision will make the determination as to which of the potential sites will serve as home port locations.

The Army intends to consider the following alternatives in the PEIS: (1) The stationing and operation of an Army-wide total of five JHSVs at military port facilities in the U.S. or U.S. territories, with up to three JHSVs at any one of the aforementioned locations; (2) The stationing and operation of an Army-wide total of up to 12 JHSVs at military port facilities in the U.S. or U.S. territories and overseas locations operated by the U.S. military, with up to three JHSV's being stationed at any one location; and (3) The no action alternative which retains the Army's existing transport fleet and does not equip the Army with JHSVs. Under the no action alternative, the Army would not be able to increase its expeditionary capability as discussed as a key requirement in the Quadrennial Defense Review (QDR) nor would it meet the rapid deployment goals of Army Transformation.

The JHSV will require fueling-at-sea training; aviation training (helicopter); live fire training; and high-speed, open-water-craft training. It is anticipated that the vessel will spend 150 days or more away from the home station. These home-station sites would only be used to support JHSV berthing and training requirements in and around the stationing location for 170 days per year. An annual maintenance cycle of approximately 45 days would occur at the home station or at another location, if appropriate maintenance facilities are not on site. The PEIS will include evaluation of the different locations which could reasonably accommodate, support, and sustain the JHSV and meet its requirements for live-fire training.

The proposed action will require the Army to balance strategic, sustainment, and environmental considerations to provide greater flexibility and responsiveness to meet today's evolving world conditions and threats to national defense and security. The PEIS will analyze the proposed action's impacts upon the natural, cultural, and manmade environments at the alternative home-stationing sites.

ADDRESSES: Comments may be sent to: Public Affairs Office, U.S. Army Environmental Command, Attention: IMAE-PA, 5179 Hoadley Rd., Aberdeen Proving Ground, MD 21010-5401.

FOR FURTHER INFORMATION CONTACT: Public Affairs Office at (410) 436-2556; fax (410) 436-1693; or e-mail: APGR-USAECNEPA@conus.army.mil.

SUPPLEMENTARY INFORMATION: The JHSV is a high-speed, shallow-draft vessel capable of rapid intratheater transport of Army units. JHSV stationing detachments consist of a 31 member crew and can accommodate up to 350 additional Soldiers. The vessel can reach speeds of 35-45 knots and has an equipment carrying capacity of approximately 700 short tons. It has a shallow draft of 12.5 feet for enhanced port access for the types of austere piers and quay walls common in developing countries. The JHSV includes a weapons mount for crew served weapons, a flight deck for helicopter operations, and an off-load ramp that allows vehicles to drive off the ship quickly. These characteristics make the JHSV an extremely flexible asset, able to support a wide range of operations including maneuver and sustainment, relief operations in small or damaged ports, flexible logistics support, or as the key enabler for rapid transport.

The National Environmental Policy Act (NEPA) of 1969 (42 U.S.C. & et seq.) and the Army NEPA procedures, Environmental Analysis of Army Action (32 CFR Part 651), require the Army to consider the environmental impacts of its actions and alternatives, and to solicit the views of the public so it can make an informed final decision regarding how to proceed. The Army is working in close coordination with the Navy (which is scheduled to receive 10 JHSVs) in coordinating NEPA evaluations for this action. The Navy is completing a separate NEPA document to evaluate its requirements for the JHSV. The Army's PEIS does not evaluate the direct and indirect environmental impacts of the Navy's JHSV program. The Army's PEIS will cumulatively consider the impacts of Navy JHSV stationing.

The PEIS will assess, consider, and compare the direct, indirect, and cumulative environmental effects from the stationing of up to three Army JHSVs per site. The primary environmental issues to be analyzed will include potential impacts to air quality, airspace, cultural resources, noise, and marine life. In addition, the Army will consider those issues identified as the part of the scoping process.

Scoping and Public Comment: All interested members of the public, including native communities and federally recognized Native American Tribes, Native Hawaiian groups, Guam Chamorro Groups, and federal, state, and local agencies, are invited to participate in the scoping process for the preparation of this PEIS. Written comments identifying environmental issues, concerns and opportunities to be analyzed in the PEIS will be accepted for 30 days following publication of the Notice of Intent in the Federal Register. There will be no on-site scoping meetings.

Dated: January 25, 2010.
Addison D. Davis, IV,
Deputy Assistant Secretary of the Army (Environment, Safety, and Occupational Health).

[FR Doc. 2010-2142 Filed 2-4-10; 8:45 am]

BILLING CODE 3710-08-M